DEPARTMENT OF ENERGY

Federal Energy Regulatory Commission

[ Docket No. OR13-25-000]

CHS Inc., Federal Express Corporation, GROWMARK, Inc., HWRT Oil Company LLC, MFA Oil Company, Southwest Airline Co., United Airlines, Inc., UPS Fuel Services, Inc. v. Enterprise TE Products Pipeline Company, LLC; Notice of Complaint

Take notice that on June 14, 2013, pursuant to sections 13(1) and 15(1) of the Interstate Commerce Act (ICA), 49 U.S.C. App. 13(1) and 15(1), and 18 CFR 385.206 (2012), and Rules 343.1(a) and 343.3(c), 18 CFR 343.1(a) and 343.2(c), CHS Inc.; Federal Express Corporation; GROWMARK, Inc.; HWRT Oil Company LLC; MFA Oil Company; Southwest Airline Co.; United Airlines, Inc.; and UPS Fuel Services, Inc. (Complainants) filed a complaint against Enterprise TE Products Pipeline Company, LLC (Enterprise TEPPCO or Respondent) challenging the lawfulness of Enterprise TE Products Pipeline Company LLC's FERC Tariff No. 55.28.0. Specifically, Complainants allege that Tariff No. 55.28.0, in providing that Enterprise TEPPCO will no longer accept nominations for the transportation of jet fuel or distillates, violates the Settlement Agreement signed by Enterprise TEPPCO in Docket No. IS12-203-000 and approved by the Commission via letter order on May 31, 2013. See Enterprise TE Products Pipeline Company LLC, 143 FERC ¶ 61,197 (2013).

As Enterprise TEPPCO does not list a current contact person on the Commission's list of Corporate Officials, Complainants certify that copies of the complaint were served on the persons listed as the Issuer and Compiler of Enterprise TEPPCO's Tariff No. 55.28.0.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on June 28, 2013.

Dated: June 17, 2013.
Kimberly D. Bose,
Secretary.

[FR Doc. 2013-14887 Filed 6-20-13; 8:45 am]

BILLING CODE 6717-01-P